DEPARTMENT OF HOMELAND SECURITY

Coast Guard

33 CFR Part 117

[Docket No. USCG-2011-1168]

Drawbridge Operation Regulations; Cape Fear River, Wilmington, NC

AGENCY: Coast Guard, DHS.

ACTION: Notice of temporary deviation from regulations.

SUMMARY: The Commander, Fifth Coast Guard District, has issued a temporary deviation from the regulations governing the operation of the Cape Fear Memorial Bridge, across the Cape Fear River, mile 26.8, at Wilmington, NC. The deviation restricts the operation of the draw span to facilitate the structural repairs and painting of the bridge.

DATES: This deviation is effective from 7 a.m. on March 1, 2012 until 11 p.m. on May 31, 2012.

ADDRESSES: Documents mentioned in this preamble as being available in the docket USCG-2011-1168 and are available online by going to http://www.regulations.gov, inserting USCG-2011-1168 in the “Keywords” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal Holidays.

FOR FURTHER INFORMATION CONTACT: If you have questions on this rule, call or email Mr. Bill H. Brazier, Bridge Management Specialist, Fifth Coast Guard District, telephone (757) 398-6422, email Bill.H.Brazier@uscg.mil. If you have questions on reviewing the docket, call Renne V. Wright, Program Manager, Docket Operations, (202) 366-9826.

SUPPLEMENTARY INFORMATION: The North Carolina Department of Transportation, who owns and operates this vertical-lift type drawbridge, has requested a temporary deviation from the current operating regulations set out in 33 CFR 117.5, to facilitate the structural repair of the bridge.

Under the regular operating schedule for this temporary deviation period, the bridge opens on signal as required by 33 CFR 117.5.

The Cape Fear Memorial Bridge across the Cape Fear River mile 26.8, at Wilmington NC has vertical clearances in the full open and closed positions of 135 feet and 65 feet above mean high water, respectively.

Under this temporary deviation to facilitate the structural repairs and painting, the drawbridge will operate as follows: Need not open from 7 a.m. on March 1, 2012 until and including 11 p.m. on May 31, 2012; except, vessel openings will be provided if at least three hours advance notice is given to the bridge tender at (910) 251-5773 or via marine radio on channel 18 VHF.

Typical vessel traffic on the Cape Fear River includes a variety of vessels from freighters, tug and barge traffic, and recreational vessels. Vessels that can pass under the bridge without a bridge opening may continue to do so at anytime. The drawbridge is able to open for emergencies.

The Coast Guard has carefully coordinated the restrictions with commercial and recreational waterway users. The Coast Guard will inform all users of the waterway through our Local and Broadcast Notice to Mariners of the closure periods for the bridge so that vessels can arrange their transits to minimize any impacts caused by the temporary deviation.

In accordance with 33 CFR 117.35(e), the drawbridge must return to its original operating schedule immediately at the end of the designated time period. This deviation from the operating regulations is authorized under 33 CFR 117.35.

Dated: February 10, 2012.
Waverly W. Gregory, Jr.,
Bridge Program Manager, Fifth Coast Guard District.

[FR Doc. 2012-4918 Filed 2-29-12; 8:45 am]

BILLING CODE 9110-04-P